DEPARTMENT OF STATE

[Public Notice No. 3214]

Notice of Meeting; International Telecommunication Advisory Committee Development Sector

The Department of State announces an open meeting for the purpose of preparing for and forming the U.S. Delegation to the upcoming March 2-3, 2000 meeting of the ITU-Development Sector Telecommunications Development Advisory Group (TDAG). The meeting will also prepare for additional ITU-D meetings that includes the following: February 28: Gender Issues; February 29 Private Sector Subgroup of the TDAG; March 1: ITU-D Study Groups 1&2 Management Team and TDAG Chairpersons and Vice-Chairs. The meeting will be held from 9:30-11:30 on Thursday, February 10, 2000, in Room 3524, Main State. Members of the general public may attend these meetings and join in the discussions, subject to the instructions of the Chair. Admission of public members will be limited to seating available. Entrance to the Department of State is controlled; people intending to attend this meeting should send a fax to 202-647-7407 no later than 24 hours before the meeting. This fax should provide the name of the meeting, (TDAG Prep Meeting) and date of the meeting, your name, social security number, date of birth, and organizational affiliation one of the following valid photo identifications will be required for admittance: U.S. driver's license, U.S. passport, U.S. Government identification card. Enter from the “C” Street Main Lobby; in view of escorting requirements, non-Government attendees should plan to arrive not later than 15 minutes before the meeting begins.

Dated: February 3, 2000.
Doreen F. McGirr,
Chair, ITAC-D, U.S. Department of State.

[FR Doc. 00-3083 Filed 2-7-00; 12:40 pm]

BILLING CODE 4710-45-U